DEPARTMENT OF TRANSPORTATION

Federal Aviation Administration

Ninth Meeting: RTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft.

DATES: The meeting will be held February 6-8, 2007, from 9 a.m. to 5 p.m.

ADDRESSES: The meeting will be held at RTCA, Inc., 1828 L Street, NW., Suite 805, Washington, DC 20036.

Note: Workgroup 3 will convene on Monday, February 5, 2007, from 1 p.m. to 4:30 p.m. Workgroup 1 will convene on Friday, February 9, 2007, from 8 a.m. to 12 p.m. and Workgroup 2 will convene Friday, February 9, 2007, from 8 a.m. to 5 p.m. Dress is Business Casual.

FOR FURTHER INFORMATION CONTACT: (1) RTCA Secretariat, 1828 L Street, NW., Suite 805, Washington, DC 20036; telephone (202) 833-9339; fax (202) 833-9434; web site http://www.rtca.org.

SUPPLEMENTARY INFORMATION: Pursuant to section 10(a)(2) of the Federal Advisory Committee Act (P.L. 92-463, 5 U.S.C., Appendix 2), notice is hereby given for a Special Committee 203 meeting. The agenda will include:

• February 6:

• Opening Plenary Session (Welcome and Introductory Remarks, Approval of Eight Plenary Summary)

• Review SC-203 Progress Since Eighth Plenary: Status from Workgroups 1, 2 and 3

• Resolve Final Review and Comment (FRAC) comments on draft document Guidance Material and Considerations for Unmanned Aircrafts Systems. (GM) document

• February 7:

• Continue resolution of FRAC comments on draft GM document

• February 8:

• Continue resolution of FRAC comments on draft GM document

• Achieve plenary consensus on draft GM document and forward to RTCA PMC for consideration.

• Closing Plenary Session (Action Item Review, Other Business, Date, Place and Time of Next Plenary, Adjourn)

• Time permitting convene WGs 1, 2 and 3.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 4, 2007.
Francisco Estrada C.,
RTCA Advisory Committee.

[FR Doc. 07-94 Filed 1-11-07; 8:45 am]

BILLING CODE 4910-13-M